FEDERAL EMERGENCY MANAGEMENT AGENCY

Fee for Services to Support FEMA's Offsite Radiological Emergency Preparedness (REP) Program

AGENCY: Federal Emergency Management Agency (FEMA).

ACTION: Notice.

SUMMARY: In accordance with FEMA Interim Rule, CFR Part 354, published in the Federal Register on December 10, 1998, 60 FR 15628, FEMA has established a fiscal year (FY) 2001 hourly rate of $35.75 for assessing and collecting fees from Nuclear Regulatory Commission (NRC) licensees for services provided by FEMA personnel for FEMA's REP Program.

DATES: This user fee hourly rate is effective for FY 2001 (October 1, 2000, to September 30, 2001).

FOR FURTHER INFORMATION CONTACT: Mr. Russell Salter, Division Director, Chemical and Radiological Preparedness Division, Preparedness, Training and Exercises Directorate, Federal Emergency Management Agency, 500 C Street SW., Washington, DC 20472, (202) 646-3030 (phone), or (email) russ.salter@fema.gov.

SUPPLEMENTARY INFORMATION: As authorized by Public Law 105-276, 112 Stat. 2461, we will charge an hourly user fee rate of $35.75 to NRC licensees of commercial nuclear power plants for all site-specific biennial exercise related services provided by FEMA personnel for FEMA's REP Program under 44 CFR Part 354. We will deposit funds that we collect under this rule in the REP Program Fund to offset the actual costs by FEMA for its REP Program.

We established the hourly rate on the basis of the methodology set forth in 44 CFR 354.4(b), “Determination of site-specific biennial exercise related component for FEMA personnel,” and will use the rate to assess and collect fees for site-specific biennial exercise related services rendered by FEMA personnel. This hourly rate only addresses charges to NRC licensees for services that FEMA personnel provide under the site-specific component, not charges for services FEMA personnel provide under the flat fee component referenced at 44 CFR 354.4(d), nor for services that FEMA contractors provide. We will charge for FEMA contractors' services in accordance with 44 CFR 354.4 (c) and (d) for the recovery of appropriated funds obligated for the Emergency Management Planning and Assistance (EMPA) portion of FEMA's REP Program budget.

Dated: November 13, 2000.
Kay C. Goss,
Associate Director for Preparedness, Training, and Exercises.

[FR Doc. 00-30450 Filed 11-28-00; 8:45 am]

BILLING CODE 6718-06-P